DEPARTMENT OF COMMERCE

National Oceanic and Atmospheric Administration

50 CFR Part 622

[Docket No. 200527-0148]

RIN 0648-BJ08

Fisheries of the Caribbean, Gulf of Mexico, and South Atlantic; Reef Fish Fishery of the Gulf of Mexico; Greater Amberjack Management Measures; Correction

AGENCY: National Marine Fisheries Service (NMFS), National Oceanic and Atmospheric Administration (NOAA), Commerce.

ACTION: Final rule; correcting amendment.

SUMMARY: NMFS corrects the final rule that implemented management measures described in a framework action to the Fishery Management Plan for the Reef Fish Resources of the Gulf of Mexico (FMP), which published in the Federal Register on April 14, 2020. In addition to revising the commercial trip limit in the Gulf of Mexico (Gulf) exclusive economic zone for greater amberjack, the final rule revised the boundaries of several Gulf reef fish management areas to reflect a change in the seaward boundary of Louisiana, Mississippi, and Alabama. That framework action final rule contained an incorrect waypoint for the Gulf reef fish longline and buoy gear restricted area. The purpose of this correcting amendment is to fix that error.

DATES: This correction is effective June 15, 2020.

FOR FURTHER INFORMATION CONTACT: Kelli O'Donnell, Southeast Regional Office, NMFS, telephone: 727-824-5305, email: kelli.odonnell@noaa.gov.

SUPPLEMENTARY INFORMATION: On April 14, 2020, NMFS published a final rule in the Federal Register (85 FR 20611) to implement provisions for a framework action that revised the commercial trip limit for Gulf greater amberjack. That final rule also revised the boundaries of the reef fish stressed area (Table 2 of appendix B to 50 CFR part 622), the reef fish longline and buoy gear restricted area (Table 1 of appendix B to 50 CFR part 622), and the recreational shallow-water grouper closure (50 CFR 622.34(d)) to ensure the boundaries of these areas were consistent with language in the 2016 and 2017 Consolidated Appropriations Acts (Pub. L. 114-113, December 18, 2015, and Pub. L. 115-31, May 5, 2017), that changed the state and Federal boundary for management of the Gulf reef fish fishery to 9 nautical miles (nm; 16.7 km) off the Gulf coasts of all the Gulf States. That rule did not change the management measures associated with each area. That final rule was effective on May 14, 2020.

Correction

In the final rule for the framework action (85 FR 20611, April 14, 2020), the regulatory text in Table 1 to appendix B to 50 CFR part 622 contained one incorrect waypoint for the reef fish longline and buoy gear restricted area. The coordinates presented to the Gulf of Mexico Fishery Management Council for review were correct. However, in the rulemaking for the framework action, Point 19 of the longline and buoy gear restricted area in Table 1 was incorrectly identified as 28°46.5′ N and 89°26.0′ W, which is inshore of the revised boundary of the Gulf reef fish longline and buoy gear restricted area. Thus, NMFS corrects Table 1 of appendix B to 50 CFR part 622 with the correct coordinate for Point 19 of the Gulf reef fish longline and buoy gear restricted area, which is 28°45.8′ N, 89°29.5′ W.

Classification

The Regional Administrator, Southeast Region, NMFS has determined that this correcting amendment is necessary for the conservation and management of Gulf reef fish resources and is consistent with the framework action, the FMP, the Magnuson-Stevens Fishery Conservation and Management Act, and other applicable law.

This correcting amendment has been determined to be not significant under Executive Order 12866.

Pursuant to 5 U.S.C. 553(b)(B), the Assistant Administrator for Fisheries, NOAA, finds good cause to waive prior notice and opportunity for additional public comment because it would be unnecessary and contrary to the public interest. This correcting amendment corrects a waypoint for the longline and buoy gear restricted area. Providing prior notice and opportunity for public comment is unnecessary and contrary to the public interest because this is a non-substantive change and retaining the incorrect waypoint will cause confusion among the affected fishers and law enforcement. The current waypoint error results in an inshore boundary of the federally-managed restricted that is inconsistent with the provisions of the 2016 and 2017 Appropriations Acts.

For the same reasons, the Assistant Administrator also finds good cause, pursuant to 5 U.S.C. 553(d), to waive the 30-day delay in effective date for this correcting amendment. This non-substantive correction will prevent confusion about the location of the boundary for the longline and buoy gear restricted area.

Because prior notice and opportunity for public comment are not required for this rule by 5 U.S.C. 553, or any other law, the analytical requirements of the Regulatory Flexibility Act, 5 U.S.C. 601 et seq., are inapplicable. Accordingly, no Regulatory Flexibility Analysis is required and none has been prepared.

List of Subjects in 50 CFR Part 622

Boundary, Commercial, Coordinates, Fisheries, Fishing, Greater amberjack, Gulf of Mexico, Reef fish, Trip limits.

Dated: May 27, 2020.
Samuel D. Rauch, III,
Deputy Assistant Administrator for Regulatory Programs National Marine Fisheries Service.

Accordingly, 50 CFR part 622 is corrected by making the following correcting amendment:

PART 622—FISHERIES OF THE CARIBBEAN, GULF OF MEXICO, AND SOUTH ATLANTIC

1. The authority citation for part 622 continues to read as follows:

Authority: 16 U.S.C. 1801 et seq.

2. In appendix B to part 622, in table 1, revise the coordinates of point 19 to read as follows:

Appendix B to Part 622—Gulf Areas

Table 1 of Appendix B to Part 622—Seaward Coordinates of the Longline and Buoy Gear Restricted Area
Point number and reference location ¹ | North lat. | West long.
* * * * * * *
19 South of Southwest Pass of Mississippi River | 28°45.8′ | 89°29.5′
* * * * * * *

* * * * *

[FR Doc. 2020-11739 Filed 6-12-20; 8:45 am]

BILLING CODE 3510-22-P